DEPARTMENT OF HEALTH AND HUMAN SERVICES

Food and Drug Administration

[FDA No. 225-07-8004]

Memorandum of Understanding Between the Food and Drug Administration and Regents of the University of California

AGENCY: Food and Drug Administration, HHS.

ACTION: Notice.

SUMMARY: The Food and Drug Administration (FDA) is providing notice of a memorandum of understanding (MOU) between FDA and the University of California, Davis campus (UC Davis). The purpose of this MOU is to establish terms of collaboration between FDA and UC Davis, focused primarily but not exclusively, in the areas of the safety and security of foods and cosmetics, animal feeds and veterinary products. Beyond the collaborations in the traditional academic programs for training, research and outreach, this MOU will also include UC Davis extended partnerships such as the Western Institute for Food Safety and Security, and the Center for Produce Safety.

DATES: The agreement became effective December 7, 2007.

FOR FURTHER INFORMATION CONTACT: Mary I. Poos, Office of the Commissioner, Office of the Chief Medical Officer (HF-40), Food and Drug Administration, 5600 Fishers Lane, Rockville, MD 20857, 301-827-2825.

SUPPLEMENTARY INFORMATION: In accordance with 21 CFR 20.108(c), which states that all written agreements and MOUs between FDA and others shall be published in the Federal Register, the agency is publishing notice of this MOU.

Dated: December 26, 2007.
Jeffrey Shuren,
Assistant Commissioner for Policy.

BILLING CODE 4160-01-S

[FR Doc. 08-30 Filed 1-8-08; 8:45 am]

BILLING CODE 4160-01-C